SECURITIES AND EXCHANGE COMMISSION

17 CFR Parts 210, 228, 229, 230, 232, 239, 240, 242, 245 and 249

[Release Nos. 33-8518; 34-50905; File No. S7-21-04]

RIN 3235-AF74

Asset-Backed Securities

Correction

In rule document 05-53 beginning on page 1506 in the issue of Friday, January 7, 2005, make the following correction:

On page 1522, the table is corrected in part to read as follows:

Disclosure for Form S-1 for Registered ABS Offerings
Existing form items | Required if applicable | May be omitted
* * * * * * | * | *
Item 11. Information with Respect to the Registrant |  | •
* * * * * * | * | *

[FR Doc. C5-53 Filed 1-18-05; 8:45 am]

BILLING CODE 1505-01-D